DEPARTMENT OF DEFENSE

Department of the Navy

Notice of the Record of Decision for the United States Marine Corps Grow the Force at Marine Corps Base Camp Lejeune, Marine Corps Air Station New River, and Marine Corps Air Station Cherry Point, NC

AGENCY: Department of the Navy, DOD.

ACTION: Notice of Record of Decision.

SUMMARY: Pursuant to Section 102(2)(c) of the National Environmental Policy Act (NEPA) of 1969, 42 United States Code (U.S.C.) Section 4332(2)(c), the regulations of the Council on Environmental Quality (CEQ) for Implementing the Procedural Provisions of NEPA (40 Code of Federal Regulations [CFR] parts 1500-1508), the Department of the Navy NEPA regulations (32 CFR part 775), and the Marine Corps Environmental Compliance and Protection Manual, which is Marine Corps Order P5090.2A w/change 2 (MCO P5090.2A), the Department of the Navy (DON) announces its decision to implement the permanent incremental increase in personnel at Marine Corps Base (MCB) Camp Lejeune, Marine Corps Air Station (MCAS) New River, and MCAS Cherry Point, North Carolina.

More specifically, this action includes: (1) New infrastructure construction (e.g. buildings, roads, utility lines); (2) demolition and/or upgrades to existing infrastructure; and (3) relocating existing units and personnel to consolidate and better support the combat missions. Implementation of this action will be accomplished as set out in the Preferred Alternative and described in the Final Environmental Impact Statement (Final EIS) of December 11, 2009.

SUPPLEMENTARY INFORMATION: The complete text of the Record of Decision is available for public viewing on the project Web site at http://www.growtheforcenc.com along with copies of the Final EIS and supporting documents. For further information, contact Grow the Force in North Carolina EIS Project Manager, Naval Facilities Engineering Command, Mid-Atlantic, Building C Room 3012, 6505 Hampton Blvd., Norfolk, VA 23508-1278. Telephone: 757-322-4942.

Dated: January 22, 2010.
A.M. Vallandingham,
Lieutenant Commander, Judge Advocate General's Corps, U.S. Navy, Federal Register Liaison Officer.

[FR Doc. 2010-2118 Filed 2-1-10; 8:45 am]

BILLING CODE 3810-FF-P